DEPARTMENT OF HOUSING AND URBAN DEVELOPMENT

[Docket No. FR-4520-FA-04]

Announcement of Funding Awards for FY 1999 Public and Indian Housing Resident Opportunity and Self Sufficiency (ROSS) Program

AGENCY: Office of Public and Indian Housing, HUD.

ACTION: Announcement of funding awards.

SUMMARY: In accordance with section 102(a)(4)(C) of the Department of Housing and Urban Development Reform Act of 1989, this announcement notifies the public of funding decisions made by the Department for funding under the FY 1999 Notice of Funding Availability (NOFA) for the Resident Opportunity and Self Sufficiency Programs for Fiscal Year 1999. This announcement contains the consolidated names and addresses of those award recipients selected for funding based on the rating and ranking of all applications within each State and the allocation of vouchers and funding available for each State.

FOR FURTHER INFORMATION CONTACT: for questions concerning the FY 1999 Resident Opportunities and Self Sufficiency (ROSS) awards, contact the Office of Public and Indian Housing's Grant Management Center, Director, Michael E. Diggs, Department of Housing and Urban Development, Washington, DC, telephone (202) 358-0221. For the hearing or speech impaired, these numbers may be accessed via TTY (text telephone) by calling the Federal Information Relay Service at 1 (800) 877-8339. (Other than the “800” TTY number, these telephone numbers are not toll-free.)

SUPPLEMENTARY INFORMATION: The purpose the program is to link services to public housing residents by providing grants for supportive service, resident empowerment activities, and activities assist residents in becoming economically self-sufficient.

The ROSS program assistance made available in this notice is authorized by the Departments of Veterans Affairs and Housing and Urban Development, Independent Agencies Appropriation Act of 1999 (Pub. L. 105-276, 112 Stat. 2461, approved October 21, 1998), and the Departments of Veterans Affairs and Housing and Urban Development and Independent Agencies Appropriations Act, 1998 (Pub. L. 105-65, 111 Stat. 1344, approved October 27, 1997), (FY Appropriations Act).

The Fiscal Year 1999 awards announced in this Notice were selected for funding in a competition announced in a Federal Register Notice published on August 10, 1999 (64 FR 43530). Applications were scored based on the selection criteria in that Notice and funding selections made based on the rating and ranking of applications within each State.

The Catalog of Federal Domestic Assistance number for this program is 14.870.

The amount announced in the Notice of Funding Availability for ROSS was $66,600,000. The ROSS allocations to Public Housing Authorities based on requirements announced in the NOFA added up to $40,630,049. In accordance with section 102(a)(4)(C) of the Department of Housing and Urban Development Reform Act of 1989 (103 Stat. 1987, 42 U.S.C. 3545), the Department is publishing the names, addresses, and amounts of 393 awards made under the ROSS programs competitions in Appendix A.

Dated: December 13, 2000.
Milan Ozdinec,
Acting General Deputy Assistant Secretary for Public and Indian Housing.

Appendix A

1999 Capacity Building Funding Awards
Applicant name | Applicant address | City | State | Zip | Amount
Jefferson County Assisted Housing Corporation | 3700 Industrial Parkway | Birmingham | Alabama | 35271 | $150,000
Avolon Gardens Resident Advisory | 769 Camelot Way #110 | Los Angeles | California | 90002 | 15,000
Independent Square Resident Advisory Council | 2455 S. St. Andrews Place | Los Angeles | California | 90018 | 15,000
Connecticut Housing Coalition | 30 Jordan Lane | Wethersfield | Connecticut | 06109 | 240,000
Acorn Tenant Union Training and Organizing Project (ATU-TOP) | 739 8th Street SE | Washington | District of Columbia | 20003 | 150,000
National Association of Housing Cooperatives, Inc | 1401 New York Avenue, NW Suite 100 | Washington | District of Columbia | 20005 | 210,000
Orange Avenue United Tenants Association | 1700 Joe Louis Street | Tallahassee | Florida | 32304 | 105,000
Residents Advisory Board of Southward Village Annex, Inc | 2425 Bay Street | Fort Myers | Florida | 33901 | 62,200
Affordable Housing Development Corporation of Macon and Taylor Counties | 137 Richardson Street | Montezuma | Georgia | 31063 | 90,000
Committee for Boston Public Housing | 100 Terrace Street Suite B | Roxbury | Massachusetts | 02120 | 105,000
Michigan State University | 1801 W. Main Street | Lansing | Michigan | 48915 | 240,000
New Jersey Association of Public and Subsidized Housing | 303 Washington Street | Newark | New Jersey | 07102 | 240,000
Community Service Society of New York | 105 East 22nd Street | New York | New York | 10010 | 80,000
Hawkins Village Resident Council | 14 A Hawkins Village | Rankin | Pennsylvania | 15104 | 15,000
Samish Indian Nation | 1610 Commercial Avenue, Suite A&B, PO Box | Anacortes | Washington | 98221 | 33,000
|  |  |  |  | 1,750,20

1999 Conflict Resolution Funding Awards
Applicant name | Applicant address | City | State | Zip | Amount
Volunteers of America of MN—Senior Resource Division | 5905 Golden Valley Road—Suite 110 | Golden Valley | Minnesota | 55422-4490 | $340,000
|  |  |  |  | 240,000

1999 Resident Management and Business Development Funding Awards
Applicant name | Applicant address | City | State | Zip | Amount
Round Valley Resident Organization | PO Box 753 Navajo County | Pinon | Arizona | 86510 | $100,000
Sierra Vista Resident Council | 1661 E 11th Street | Stockton | California | 95206 | 100,000
Colonial Village Tenants Association | 123 Camelita Court | Oxnard | California | 93030 | 100,000
Highland Dwelling Resident Council | 640 Atlantic Street, SE | Washington | District of Columbia | 20032 | 100,000
Barry Farm Dwellings Resident Council | 1326 Stevens Road, SE | Washington | District of Columbia | 20020 | 100,000
Fort Dupont and Additions Resident Council | 24 Ridge Road, SE | Washington | District of Columbia | 20019 | 100,000
Garfield Terrace Family Resident Council | 2371 11th Street NW | Washington | District of Columbia | 20001 | 100,000
Sibley Plaza Resident Association, Inc | 1140 North Capitol Street NW | Washington | District of Columbia | 20002 | 100,000
Scattered Sites Resident Council | 1312 Girard St., NW | Washington | District of Columbia | 20009 | 100,000
Resident Initiative Council Martin Luther King, Jr. Apts., I | 819 South Street, Apt #41 | Daytona Beach | Florida | 32114 | 100,000
M.L. King Highrise RA | 535 Whitehall Street #409 | Atlanta | Georgia | 30315 | 100,000
Thomasville Heights, Inc | 1150 Henry Thomas Drive | Atlanta | Georgia | 30315 | 100,000
Barge Road Highrise RA | 2440 Barge Road, SW | Atlanta | Georgia | 30331 | 100,000
Georgia Avenue Tenants Association, Inc. | 174 Georgia Avenue #511 | Atlanta | Georgia | 30312 | 100,000
Allen Road Mid-Rise RA | 144 Allen Road | Atlanta | Georgia | 30305 | 100,000
Sparta Resident Council, Inc. | 808 Dyer Drive | Sparta | Georgia | 31087 | 100,000
Roosevelt House Highrise RA, Inc | 582 Techwood Drive, NW Suite 301 | Atlanta | Georgia | 30313 | 100,000
Cheshire Bridge Road RA | 2170 Cheshire Bridge Road #10 | Atlanta | Georgia | 30324 | 100,000
Piedmont Highrise, Inc | 3601 Piemont Road, N.E. Apt 1215 | Atlanta | Georgia | 30305 | 100,000
Hightower Manor Resident Council Inc. | 2611 MLK, Jr. Drive., SW | Atlanta | Georgia | 30311 | 100,000
Lakeview-Ogeeche, Inc | PO Box 627 | Sparta | Georgia | 31087 | 100,000
Cosby-Spear Highrise RA, Inc | 355 North Avenue | Atlanta | Georgia | 30308 | 100,000
Blackburn Terrace Resident Management Corp. (BTRMC) | 3091 Baltimore Avenue | Indianapolis | Indiana | 46218 | 100,000
Laurelwood Apartment Resident Management Corp. (LRMC) | 3346 Teakwood Drive | Indianapolis | Indiana | 46227-3239 | 100,000
Summit View Resident Council | PO Box 116 | Bowling Green | Kentucky | 42102 | 100,000
Dosker Manor Resident Council | 413 E. Muhammad Ali Blvd, Box G 21 | Louisville | Kentucky | 40202 | 100,000
Robeson-Schwartz Resident Association | 15 Wright Place | New Brunswick | New Jersey | 08903 | 100,000
Riverside Terrace Resident Council | 29 Harris Place | Paterson | New Jersey | 07514 | 100,000
Newark Tenants Council, Inc | 303 Washington Street | Newark | New Jersey | 07102 | 100,000
United Resident of Taylor Center, Inc | 791 Shannon | Las Cruces | New Mexico | 88001 | 100,000
Honor Heights Towers Resident Association | 300 N 40th | Muskogee | Oklahoma | 74401 | 100,000
McKees Rock Terrace | 5228 Broadway 4-B Oleander Homes | McKees Rocks | Pennsylvania | 15136 | 100,000
Sheldon Park Resident Management Corporation | 480 Park Avenue | Natrona Heights | Pennsylvania | 15065 | 100,000
Oleander Homes Resident Council | 5228 Broadway 4B | Galveston | Texas | 77551 | 100,000
Magnolia Homes Resident Council | 1601 Strand, 13G Magnolia Homes | Galveston | Texas | 77550 | 100,000
Calvert Square Advisory Council | 983 Bagnall Road | Norfolk | Virginia | 23504 | 100,000
Eastern Shoshone Resident Council | PO Box 1250 | Fort Washakie | Wyoming | 82514 | 100,000
|  |  |  |  | 3,7000,000.0

1999 Elderly Service Coordinators Funding Awards
Applicant name | Applicant address | City | State | Zip | Amount
Florence Housing Authority | 303 North Pine Street | Florence | Alabama | 35630 | $39,347
Jefferson County Housing Authority | 3700 Industrial Parkway | Birmingham | Alabama | 35217 | 31,917
Alaska Finance Corporation | PO Box 101020 | Anchorage | Alaska | 99510-1020 | 29,164
Cioth of Tucson/Community Services Department | Post Office Box 27210 | Tucson | Arizona | 85726 | 51,000
City of Phoenix Housing Department | 251 W. Washington St., 4th Fl | Phoenix | Arizona | 85003 | 178,121
Housing Authority of North Little Rock | 2201 Division/P.O. Box 516 | North Little Rock | Arkansas | 72114 | 53,272
Housing Authority of the County of Kern | 525 Roberts Land | Bakersfield | California | 93308 | 45,144
Housing Authority of the City of Sacramento | 630 I Street | Sacramento | California | 95814 | 193,724
Housing Authority of the City of Oakland | 1619 Harrison Street | Oakland | California | 94612 | 89,983
San Diego Housing Commission | 1625 Newton Avenue | San Diego | California | 92113 | 55,985
Denver Housing Authority | 1100 West Colfax | Denver | Colorado | 80204 | 50,000
Housing Authority of the City of Norwalk | 24½ Monroe Street | Norwalk | Connecticut | 06854 | 37,638
West Haven Housing Authority | 15 Glade Street | West Haven | Connecticut | 06516 | 39,458
Housing Authority of the City of Fort Pierce | 707 North 7th Street | Fort Pierce | Florida | 34950 | 39,150
Fort Myers Housing Authority | 4224 Michigan Avenue | Fort Myers | Florida | 33916 | 42,600
Miami-Dade Housing Authority | 1401 NW 7th Street | Miami | Florida | 33125 | 230,000
Jacksonville Housing Authority | 1300 Broad Street | Jacksonville | Florida | 32202 | 54,896
The Housing Authority of the City of Augusta, GA | 1425 Walston Way, P.O. | Augusta | Georgia | 30914 | 105,672
Housing Authority of the City of East St. Louis | 700 North 20th Street | East St. Louis | Illinois | 62205 | 225,000
Rockford Housing Authority | 223 South Wennebago Street | Rockford | Illinois | 61102 | 55,335
Decator Housing Authority | 1808 E Locust Street | Decatur | Illinois | 62521 | 37,426
Housing Authority of Champaign County | 205 West Park Avenue | Champaign | Illinois | 61820 | 25,680
Housing Authority of Marion County, IL | 719 E. Howard-P.O. Box 689 | Centralia | Illinois | 62801 | 30,000
Housing Authority of Joliet | Post Office Box 2519 | Joliet | Illinois | 60434 | 33,550
St. Clair County Housing Authority | 100 North 48th Street | Belleville | Illinois | 62226 | 33,320
Housing Authority of the County of Lake, IL | 33928 North Route 45 | Grayslake | Illinois | 60030 | 27,000
Housing Authority of the County of Cook | 310 South Michigan, 15th Floor | Chicago | Illinois | 60604 | 225,000
Chicago Housing Authority | 626 West Jackson Boulevard | Chicago | Illinois | 60661 | 600,000
Housing Authority of the City of Fort Wayne | 2013 South Anthony Boulevard | Fort Wayne | Indiana | 46869-3489 | 39,056
Housing Authority of the City of Kokomo | 210 E. Taylor Street | Kokomo | Indiana | 46903-1207 | 34,586
City of Des Moines Department of Housing Services | 1101 Crocker | Des Moines | Iowa | 50309 | 94,612
Ottumwa Housing Authority | 102 West Finley Avenue | Ottumwa | Iowa | 52501 | 31,980
Lawrence Housing Authority | 1600 Haskell Avenue | Lawrence | Kansas | 66044-4399 | 32,030
Housing Authority of Henderson | 111 South Adams Street | Henderson | Kentucky | 42420 | 33,519
Housing Authority of Mayfield | 312 Brookside Dr | Mayfield | Kentucky | 42066 | 30,000
Housing Authority of Bowling Green | P.O. Box 116 | Bowling Green | Kentucky | 42102-0116 | 30,600
Housing Authority of East Baton Rouge Parish | 4546 North Street | Baton Rouge | Louisiana | 70806 | 24,873
Portland Housing Authority | 14 Baxter Blvd. | Portland | Maine | 04101 | 81,816
Housing Authority of Baltimore City | 417 East Fayette Street Suite 265 | Baltimore | Maryland | 21202 | 297,222
Hagerstown Housing Authority | 35 West Baltimore Street | Hagerstown | Maryland | 21740 | 50,000
Housing Commission of Anne Arundel, County | 7885 Gordon Court | Glen Burnie | Maryland | 21060-2817 | 31,611
Housing Opportunities Commission of Montgomery Co | 10400 Detrick Avenue | Kensington | Maryland | 20895 | 52,378
Housing Authority of the City of Cumberland Maryland | 635 East First Street | Cumberland | Maryland | 21502 | 31,135
Cambridge Housing Authority | 675 Massachusetts Avenue | Cambridge | Massachusetts | 02139 | 148,412
Lawrence Housing Authority | 353 Elm Street | Lawrence | Massachusetts | 01841 | 50,000
Boston Housing Authority | 52 Chauncy Street | Boston | Massachusetts | 02111 | 222,537
New Bedford Housing Authority | 134 South Second St. PO Box 2081 Bristol County | New Bedford | Massachusetts | 02741 | 43,497
Lynn Housing Authority | 10 Church Street | Lynn | Massachusetts | 01902 | 44,880
Brockton Housing Authority | 45 Goddard Road | Brockton | Massachusetts | 02301 | 208,744
Worcester Housing Authority | 40 Belmont Street | Worcester | Massachusetts | 01605 | 232,404
Malden Housing Authority | 630 Salem Street | Malden | Massachusetts | 02148 | 50,000
Flint Housing Commission | 3820 Richfield Road | Flint | Michigan | 48506 | 56,650
Port Huron Housing Commission | 805 Seventh Street | Port Huron | Michigan | 48060 | 31,750
Plymouth Housing Commission | 1160 Sheridan | Plymouth | Michigan | 48170 | 32,640
Jackson Housing Commission | 301 Steward Avenue | Jackson | Michigan | 49201 | 30,600
Inkster Housing Commission | 4500 Inkster Road | Inkster | Michigan | 48141 | 38,613
St. Paul Public Housing Agency | 480 Cedar Street Suite 600 | St. Paul | Minnesota | 55101 | 196,100
Housing and Redevelopment Authority of Duluth, MN | 222 E. 2nd Street | Duluth | Minnesota | 55816-0900 | 43,985
South St. Paul and Dakota County HRA | 125 Third Avenue North | South St. Paul | Minnesota | 55075 | 53,469
Minneapolis Public Housing Authority | 1001 Washington Avenue North | Minneaplis | Minnesota | 55401 | 229,500
Tennessee Valley Regional Housing Authority | Post Office Box 1329 | Corinth | Mississippi | 38835-1329 | 50,000
Mississippi Regional Housing Authority VIII | 2909 26th Avenue | Gulfport | Mississippi | 39505-2347 | 31,800
Housing Authority of the City of Biloxi | Post Office Box 447 | Biloxi | Mississippi | 39533 | 30,000
Housing Authority of the City of Columbia | 207 Park Avenue | Columbia | Missouri | 65203 | 24,000
Saint Louis Housing Authority | 4100 Lindell Boulevard | St. Louis | Missouri | 63108 | 39,461
Housing Authority of Kansas City | 712 Broadway | Kansas | Missouri | 64106 | 54,346
Housing Authority of the County of Clark | 5390 East Flamingo Road | Las Vegas | Nevada | 89122 | 30,600
Housing Authority of the City of Las Vegas | 420 North Tenth Street | Las Vegas | Nevada | 89101 | 228,377
Laconia Housing and Redevelopment Authority | 25 Union Avenue | New Hampshire | New Hampshire | 03246 | 31,508
Manchester Housing Redevelopment Authiority | 198 Hanover Street | Hillsborough | New Hampshire | 03104 | 51,000
Secaucus Housing Authority | 700 County Avenue | Secaucus | New Jersey | 07094 | 30,000
Santa Fe Civic Housing Authority Inc | Post Office Box 4039 | Santa Fe | New Mexico | 87505 | 29,160
Niagara Falls Housing Authority | 744 Tenth Street | Niagara Falls | New York | 14301 | 76,500
Buffalo Municipal Housing Authority | 300 Perry Street | Buffalo | New York | 14204 | 157,968
Albany Housing Authority | 4 Lincoln Square | Albany | New York | 12202 | 64,787
Plattsburgh Housing Authority | 39 Oak Street | Plattsburgh | New York | 12901 | 35,640
Elmira Housing Authority | 346 Woodlawn Avenue | Elmira | New York | 14901 | 41,070
Hempstead Public Housing Authority | 260 Clinton Street | Hampstead | New York | 11550 | 58,000
Syracuse Housing Authority | 516 Burt Street | Syracuse | New York | 13202 | 199,030
Rochester Housing Authority | 140 West Avenue | Rochester | New York | 14611-2744 | 184,375
Jamestown Housing Authority | 110 West Third Street | Jamestown | New York | 14701 | 50,276
Schenectady Municipal Housing Authority | 315 Broadway | Schenectady | New York | 12305 | 50,000
Housing Authority of the City of Asheville | 165 S. French Broad Avenue | Asheville | North Carolina | 28801 | 41,844
Greensboro Housing Authority | Post Office Box 21287 | Greensboro | North Carolina | 27420 | 55,000
Housing Authority of Winston-Salem | 901 Cleveland Avenue | Winston-Salem | North Carolina | 27101 | 151,000
Minot Housing Authority | 310 2nd Street SE | Minot | North Dakota | 58701 | 39,305
Cuyahoga Metropolitan Housing Authority | 6001 Woodland Avenue 5th Floor | Cleveland | Ohio | 44104 | 229,500
Ashtabula Metropolitan Housing Authority | 3526 Lake Avenue | Ashtabula | Ohio | 44004 | 31,425
Jefferson Metropolitan Housing Authority | 815 North Sixth Avenue | Steubenville | Ohio | 43952 | 30,000
Cincinnati Metropolitan Housing Authority | 16 West Central Parkway | Cincinnati | Ohio | 45210 | 131,537
Youngstown Metropolitan Housing Authority | 131 W. Boardman Street | Youngstown | Ohio | 44503 | 50,000
Lucas Metropolitan Housing Authority | 435 Nebraska Avenue | Toledo | Ohio | 43602 | 225,000
Zanesville Metropolitan Housing Authority | 407 Pershing Road | Zanesville | Ohio | 43701 | 30,600
Oklahoma City Housing Authority | 1700 Northeast Fourth Street | Oklahoma | Oklahoma | 73117-3800 | 215,220
Housing Authority of the City of Tulsa | 415 E. Independence | Tulsa | Oklahoma | 74148-0369 | 78,552
Miami Public Housing Authority | 205 B. NE | Miami | Oklahoma | 74355 | 34,440
Housing Authority of Portland Oregon | 135 SW. Ash Street | Portland | Oregon | 97204 | 182,400
Housing Authority and Urban Renewal Agency of Polk County | 204 SW Walnut Avenue | Dallas | Oregon | 97338 | 35,797
Philadelphia Housing Authority | 12 South 23rd Street | Philadelphia | Pennsylvania | 19103 | 200,254
Housing Authority of the County of Butler | 111 S. Cliff Street, P.O. Box 1917 | Butler | Pennsylvania | 16003-1917 | 33,750
Housing Authority of the County of Beaver | 300 State Street | Beaver | Pennsylvania | 15009 | 110,000
Bucks County Housing Authority | 350 S. Main Street—Suite 205 | Doylestown | Pennsylvania | 18901 | 27,000
Housing Authority of the County of Dauphin | 501 Mohn Street | Steelton | Pennsylvania | 17113-0598 | 50,000
Lancaster City Housing Authority | 325 Church Street | Lancaster | Pennsylvania | 17602 | 43,648
Altoona Housing Authority | 2700 Pleasant Valley Boulevard | Altoona | Pennsylvania | 16602 | 28,755
Housing Authority of the City of York | P.O. Boxs 1963 | York | Pennsylvania | 17405 | 35,984
Housing Authority of Northumberland County | 50 Mahoning Street | Milton | Pennsylvania | 17847 | 30,000
Pattucket Housing Authority | 214 Roosevelt Avenue | Pawtucket | Rhode Island | 02816 | 78,750
Housing Authority of the City of Woonsocket, RI | 679 Social Street | Woonsocket | Rhode Island | 02895 | 73,011
Town of Cumberland Housing Authority | One Mendon Road | Cumberland | Rhode Island | 02864 | 32,790
Cranston Housing Authority | 50 Birch Street | Cranston | Rhode Island | 02920 | 37,500
Housing Authority of the City of Newport | 1 York Street | Newport | Rhode Island | 02840 | 30,000
Spartanburg Housing Authority | P.O. Box 2828 | Spartanburg | South Carolina | 29304-2828 | 50,000
Housing Authority of the City of Charleston | 550 Meeting Street | Charleston | South Carolina | 29401 | 55,000
Metropolitan Development and Housing Agency | Post Office Box 846 | Nashville | Tennessee | 37202 | 96,364
Knoxville's Community Development Corporation | 901 Broadway, N.E | Knoxville | Tennessee | 37927 | 306,870
Chattanooga Housing Authority | Post Office Box 1486 | Chattanooga | Tennessee | 37401 | $241,370
Memphis Housing Authority | 700 Adams Avenue | Memphis | Tennessee | 38105 | 153,000
City of Waco Housing Authority | 1001 Washington Street | Waco | Texas | 76703 | 31,170
Housing Authority of the City of Galveston, TX | 4700 Broadway | Galveston | Texas | 77551 | 38,697
Housing Authority of the City of San Antonio | 818 South Flores Street | San Antonio | Texas | 78204 | 289,615
Housing Authority of the City of Austin | 1640B East Second Street | Austin | Texas | 78702 | 63,025
Housing Authority of the City of Corpus Christi | 3701 Ayers Street | Corpus Christi | Texas | 78415 | 30,000
Laredo Housing Authority | 2000 San Francisco Avenue | Laredo | Texas | 78040 | 35,577
Fort Worth Housing Authority | 1201 E. 13th Street; P.O. Box 430 | Fort Worth | Texas | 76102 | 59,623
Temple Housing Authority | 700 W Calhoun | Temple | Texas | 76503-1326 | 31,304
Housing Authority of the City of Dallas | 3939 N. Hampton Road | Dallas | Texas | 75212 | 53,485
Richmond Redevelopment and Housing Authority | 901 Chamberlayne Parkway | Richmond | Virginia | 23261-6887 | 282,222
Marion Redevelopment Housing Authority | 237 Miller Avenue | Marion | Virginia | 24354 | 225,000
Alexandria Redevelopment and Housing Authority | 600 North Fairfax Street | Alexandria | Virginia | 22314 | 38,064
Norfolk Redevelopment & Housing Authority | P.O. Box 968 | Norfolk | Virginia | 23501 | 46,377
Tacoma Housing Authority | 902 South L. Street | Tacoma | Washington | 98405 | 47,925
Housing Authority County of King | 15455 65th Avenue South | Tukwila | Washington | 98188 | 252,687
Housing Authority of the City of Seattle | 120 6th Avenue North | Seattle | Washington | 98109 | 240,975
Huntington West Virginia Housing Authority | #30 Northcott Court | Huntington | West Virginia | 25722 | 33,548
Appleton Housing Authority | 525 N. Oneida Street | Appleton | Wisconsin | 54911 | 20,000
Milwaukee Housing Authority | 809 North BroadWay | Milwaukee | Wisconsin | 53201-0324 | 108,533
Housing Authority City of Oshkosh | 600 Merritt Avenue | Oshkosh | Wisconsin | 54449-0030 | 38,030
|  |  |  |  | 12,058,002

1999 Resident Service Delivery Models Funding Awards
Applicant name | Address | City | State | Amount
Housing Authority of the City of Calexico | 1006 East 5th Street | Calexico | California | $75,000
Housing Authority of the City of Tacoma | 902 South L Street | Tacoma | Washington | 75,000
Housing Authority of Milwaukee | 809 North Broadway | Milwaukee | Wisconsin | 250,000
Chillicothe Metropolitan Housing Authority | 178 West Fourth St | Chillicothe | Ohio | 75,000
HA and Community Service Agency of Lane County | 177 Day Island Road | Eugene | Oregon | 100,000
Housing Authority of Covington | 2940 Madison Avenue | Covington | Kentucky | 75,000
Albany Housing Authority | 4 Lincoln Square | Albany | New York | 250,000
City of Albuquerque Department of Family and Career Services | 400 Marquette Suite 504 | Albequerque | New Mexico | 75,000
City Wide Residents Council | 480 Cedar Street #600 | St. Paul | Minnesota | 75,000
Danville Redevelopment and Housing Authority | 651 Cardinal Place | Danville | Virginia | 75,000
Dayton Metropolitan Housing Authority | 400 Wayne Avenue | Dayton | Ohio | 100,000
Housing Authority of the City of East St. Louis | 700 North 20th Street | East S. Louis | Illinois | 250,000
The Indianapolis Housing Agency | Five Indiana Square | Indianapolis | Indiana | 250,000
Housing Authority of St. Louis County | 8865 Natural Bridge RD | St. Louis | Missouri | 75,000
Housing Authority of the City of Charlotte | 1301 South Boulevard P.O. Box 36795 | Charlotte | North Carolina | 250,000
Housing Authority of the City of Providence | 100 Broad Street | Providence | Rhode Island | 100,000
Lynn Housing Authority | 10 Church Street | Lynn | Massachusetts | 75,000
Housing Authority of the City of Austin | 1640-B East Second Street | Austin | Texas | 249,757
Housing Authority of the City of Shreveport | 623 Jordan Street | Shreveport | Louisiana | 75,000
Lowell Housing Authority | Lowell HA, 350 Moody St. PO Box 60 | Lowell | Massachusetts | 100,000
San Diego Housing Commission | 1625 Newton Avenue | San Diego | California | 250,000
Foundation for the Homeownership Development, Inc | Calle 18, M-19 Condado Moderno | Caguas | Puerto Rico | 75,000
Housing Authority of the City of Wheeling | 11 Community St | Wheeling | West Virginia | 100,000
Schenectady Municipal Housing Authority | 375 Broadway | Schenectady | New York | 75,000
Tampa Housing Authority | 1800 North Rome Ave | Tampa | Florida | 250,000
Housing Authority of Fulton | 200 N. Highland Drive | Fulton | Kentucky | 75,000
Housing Authority of the County of Butler | 114 Woody Drive | Butler | Pennsylvania | 100,000
Worcester Housing Authority | 40 Belmont Street | Worchester | Massachusetts | 250,000
Grand Rapids Housing Commission | 1420 Fuller SE | Grand Rapids | Michigan | 27,125
Housing Authority of the City of Elizabeth | 688 Maple Avenue | Elizabeth | New Jersey | 74,996
Housing Authority of the County of Riverside | 5555 Alington Avenue | Riverside | California | 75,000
Housing Authority of the City of Annapolis | 1217 Madison Street | Annapolis | Maryland | 75,000
Housing Authority of the City of Salem | P.O. Box 808 | Salem | Oregon | 75,000
Housing Authority of the City of Seattle | 120 Sixth Avenue North | Seattle | Washington | 250,000
Allegheny County Housing Authority | 341 Fourth Avenue | Pittsburgh | Pennsylvania | 250,000
Housing Authority of the City of Los Angeles | 520 South Lafayette Park Pl Suite 400 | Los Angeles | California | 250,000
Kitsap County Consolidated Housing Authority | 9307 Bayshore Dr. NW | Silverdale | Washington | 75,000
Spokane Housing Authority | 55 W. Mission Suite 104 | Spokane | Washington | 75,000
The Housing Authority of Baltimore City | 417 E. Fayette Street Suite 265 | Baltimore | Maryland | 500,000
Town of Johnston Housing Authority | 8 Forand Circle | Johnston | Rhode Island | 75,000
Hampton Redevelopment and Housing Authority | 1300 Thomas St | Hampton | Virginia | 75,000
Knoxville's Community Development Corporation | 901 Broadway N.E. | Knoxville | Tennessee | 250,000
The District of Columbia Housing Authority | 1133 North Capital Street N.E. Suite 325 | Washington | District of Columbia | 250,000
Broward County Housing Authority | 1773 North State Rd 7 | Lauderhill | Florida | 75,000
Cambridge Housing Authority | 675 Massachusetts Avenue | Cambridge | Massachusetts | 75,000
Dover Housing Authority | 62 Whittier Street | Dover | New Hampshire | 100,000
Fort Walton Beach Housing Authority | 27 Robinwood Drive, SW | Fort Walton Beach | Florida | 75,000
Gainsville Housing Authority | 100 NE 8th Avenue, Oak Park | Gainsville | Florida | 27,125
Housing Authority of the City of Bloomington | 104 E. Wood Street | Bloomington | Illinois | 75,000
Housing Authority of the City of Hartford | 475 Flatbush Avenue | Hartford | Connecticut | 250,000
Vecindario de Esperanza Resident Council, Inc | 2324 Calle Contenta #8 | Las Vegas | New Mexico | 68,372
Detroit Housing Commission | 1301 E. Jefferson | Detroit | Michigan | 250,000
Housing Authority of Fresno County | 1331 Fulton Mall | Fresno | California | 75,000
Housing Authority of Joliet | 6 S. Broadway St. | Joliet | Illinois | 75,000
RESPECT Inc. | 411 S.E. 8th Street | Evansville | Indiana | 75,000
The Housing Authority of the City of Dallas | 3939 N. Hampton Road | Dallas | Texas | 100,000
Fort Worth Housing Authority, | 1201 E. 13th Street P.O. Box 430 | Fort Worth | Texas | 75,000
Housing Authority of the City of Frederick | 209 Madison Street | Frederick | Maryland | 75,000
Temple Housing Authority | 700 W. Calhoun | Temple | Texas | 75,000
The Housing Authority of the City of Evansville | 500 Court St. | Evansville | Indiana | 100,000
The Housing Authority of the City of Spartansburg | 325 South Church P.O. Box 2828 | Spartanburg | South Carolina | 75,000
Waynesboro Redevelopment and Housing Authority | 1700 New Hope Road P.O. Box 1138 | Waynesboro | Virginia | 74,998
Lawrence Housing Authority | 353 Elm Street | Lawrence | Massachusetts | 75,000
Anniston Housing Authority | 500 Glen Addie Avenue | Anniston | Alabama | 75,000
City of Phoenix Housing Department | 830 East Jefferson | Phoenix | Arizona | 250,000
City of Waco Housing Authority | 1001 Washington Avenue | Waco | Texas | 100,000
Flint Area Consolidated Housing Authority | 137 Richardson Street P.O. Box 67 | Montezuma | Georgia | 75,000
Housing Authority of Hopkinsville | P.O. Box 437 | Hopkinsville | Kentucky | 75,000
Housing Authority of Louisville | 420 S. 8th Street | Louisville | Kentucky | 100,000
Housing Authority of the City of Las Vegas | 420 North 10th Street | Las Vegas | Nevada | 250,000
Housing Authority of the County of Contra Costa | 3133 Estudillo Street | Martinez | California | 75,000
La Salle University, Nursing Center, Health Center | 1900 W. Olney Ave. Box 808 | Philadelphia | Pennsylvania | 75,000
Augusta Housing Authority | 1425 Walton Way | Augusta | Georgia | 249,414
Children's Case Management Organization, Inc | 1720 E. Tiffany Drive #101 | West Palm Beach | Florida | 75,000
Helena Housing Authority | 812 Abbey | Helena | Montana | 75,000
Housing Authority of the City of Tulsa | 415 East Independence P.O. Box 6369 | Tulsa | Oklahoma | 250,000
Ocala Housing Authority | 233 S.W. 3rd Street PO Box 2468 | Ocala | Florida | 75,000
Philadelphia Housing Authority | 12 South 23rd Street | Philadelphia | Pennsylvania | 500,000
Plymouth Housing Authority | 69 Allerton Street | Plymouth | Massachusetts | 27,125
Housing Authority of the City of New Albany | PO Box 275 | New Albany | Indiana | 75,000
Joann Dorsey Family Homes Resident Council | 1115-A Dorsey Drive | Champaign | Illinois | 75,000
Georgetown Housing Authority | 39 Scroggin Park | Georgetown | Kentucky | 75,000
Housing Authority of Murray | 716 Nash Drive | Murray | Kentucky | 27,125
Housing Authority of the County of King | 15455-65th Ave South | Tukwila | Washington | 250,000
Oak Ridge Housing Authority | 10 Van Hicks Lane | Oak Ridge | Tennessee | 75,000
Fargo Housing and Redevelopment Authority | 325 Broadway | Fargo | North Dakota | 99,900
Housing Authority of Chester County 1st Floor | 30 West Barnard Street | West Chester | Pennsylvania | 27,125
Housing Authority of the County of Luzerne | 250 First Ave | Kingsotn | Pennsylvania | 100,000
Housing Authority of the Township of Irvington | 624 Nye Avenue | Irvington | New Jersey | 75,000
Alexandria Redevelopment and Housing Authority | 600 North Fairfax Street | Alexandria | Virginia | 209,355
Housing Authority of Columbus, Georgia | 1000 Wynnton Road | Columbus | Georgia | 250,000
Housing Authority of Cynthiana | 149 Federal Street PO Box 351 | Cynthiana | Kentucky | 27,125
The City of Lawrence Housing Authority | 1600 Haskell Avenue | Lawrence | Kansas | 75,000
Buffalo Municipal Housing Authority | 300 Perry St | Buffalo | New York | 229,848
North Bend City Housing Authority | 1700 Monroe | North Bend | Oregon | 75,000
Rochester Housing Authority | 86 Vienna Street | Rochester | New York | 250,000
White Plains Housing Authority | 223 Dr. Martin Luther King, Jr., Blvd. | White Plains | New York | 100,000
Housing Authority of the township of Woodbridge | 20 Bunns Lane | Woodbridge | New Jersey | 75,000
The Housing Authority of the City of Independence | 210 South Pleasant | Independence | Missouri | 75,000
Catlettsburg Housing Authority | 210 24th Street | Catlettsburg | Kentucky | 10,650
Chester Housing Authority | 1010 Madison St. | Chester | Pennsylvania | 75,000
Denver Housing Authority | 2650 Welton Street | Denver | Colorado | 250,000
Hillside Family Organization, Incorporated | 1452 N. 7th St. | Milwaukee | Wisconsin | 75,000
Housing Authority of the City of Charleston | 911 Michael Avenue | Charleston | West Virginia | 99,999
Housing Authority of the City of El Paso | 5300 E. Paisano drive | El Paso | Texas | 250,000
Housing Authority of the City of Oxnard | 1500 Colonia Road | Oxnard | California | 75,000
Port Chester Housing Authority | 2 Weber Drive | Port Chester | New York | 27,125
Cohoes Housing Authority | 100 Manor Site | Cohoes | New York | 27,125
Highland Park Housing Authority | 242 South Sixth Ave | Highland Park | New Jersey | 27,125
Housing Authority of the City of Brunswick | 1126 Albany St | Brunswich | Georgia | 75,000
Atlantic City Housing Authority | 201-A Maryland Avenue | Atlantic City | New Jersey | 100,000
Crossville Housing Authority | 202 Irwin Avenue P.O. Box 425 | Crossville | Tennessee | 27,125
Housing Authority of Brevard County | 615 Kurek Court | Meritt Island | Florida | 75,000
Housing Authority of Jefferson County | 801 Vine Street | Louisville | Kentucky | 27,125
Jefferson County Housing Authority | 6025 W. 38th Avenue | Wheat Ridge | Colorado | 75,000
Hutchinson Housing & Redevelopment Authority | 133 Third Avenue SW | Hutchinson | Minnesota | 27,125
Minneapolis Public Housing Authority | 1001 Washington Ave North | Minneapolis | Minnesota | 150,000
River Rouge Housing Commission | 180 Visger | River Rouge | Michigan | 75,000
Edison Housing Authority | Willard Dunham Drive | Edison | New Jersey | 75,000
Niagara Falls Housing Authority | 744 Tenth Street | Niagara Falls | New York | 75,000
Housing Authority of Glasgow | 106 Bunche Ave | Galsgow | Kentucky | 100,000
Delaware County Housing Authority | 1855 Constitution Avenue | Woodlyn | Pennsylvania | 27,125
Housing Authority of Martin | 110 R. Griffith Drive #1101 P.O. Box 806 | Martin | Kentucky | 75,000
Corporacion Para El Desarrollo Del Oeste, Inc | Ave. Corazones #1020, Bo. Sabalos | Mayaguez | Puerto Rico | 75,000
Housing Opportunities Commission of Montgomery County, Maryland | 10400 Detrick Avenue | Kensington | Maryland | 75,000
Logan County Metropolitan Housing Authority | 116 North Everett Street | Bellefontaine | Ohio | 75,000
B.W. Cooper Resident Management Corp | 3422 Earhart Boulevard | New Orleans | Louisiana | 75,000
Housing Authority of Henderson | 111 South Adams Street | Henderson | Kentucky | 27,125
Housing Authority of Providence | 101 Ceterridge Drive | Providence | Kentucky | 75,000
Rockingham Housing Authority | 908 Armistead St | Rockingham | North Carolina | 27,125
Springfield Housing Authority | 25 Saab Court | Springfield | Massachusetts | 75,000
Housing Authority of Fulton County | 10 Park Place South, S.E. Suite 240 | Atlanta | Georgia | 75,000
Jackson Housing Authority | 125 Preston Street | Jackson | Tennessee | 75,000
Suffolk Redevelopment and Housing Authority | 530 East Pinner Street | Suffolk | Virginia | 74,973
The Housing Authority of the City of Harlingen | 202 South First Street | Harlingen | Texas | 75,000
Housinig Authority of the City of Bremerton | 110 Russell Road | Bremerton | Washington | 74,185
Housing Authority of the City of Fresno | 1331 Fulton Mall | Fresno | California | 250,000
Housing Authority of the Town of Angola | 617 N. Williams St | Angola | Indiana | 26,940
Area Housing Authority for the County of Ventura | 1400 West Hillcrest Drive | Newbury Park | California | 27,125
Cincinnati Metropolitan Housing Authority | 16 West Central Parkway | Cincinnati | Ohio | 150,000
Huntington West Virginia Housing Authority | P.O. Box 2183 | Huntington | West Virginia | 75,000
Housing Authority of the City of Danville, Illinois | 1607 Clyman Lane P.O. Box 312 | Danville | Illinois | 75,000
Englewood Housing Authority | 111 West Street | Englewood | New Jersey | 27,125
Town of Coventry Housing Authority | 14 Manchester Circle | Coventry | Rhode Island | 9,042
Housing Authority of the City of Rahway | 165 E. Grand Avenue | Rahway | New Jersey | 75,000
Jackson Housing Commission | 301 Steward Avenue | Jackson | Michigan | 25,000
Lucas Metropolitan Housing Authority | 435 Nebraska Avenue | Toledo | Ohio | 250,000
Truth or Consequences Housing Authority | 108 South Cedar Street | Truth or | New Mexico | 75,000
Chicago Housing Authority | 626 West Jackson Boulevard | Chicago | Illinois | 478,200
Lenior Housing Authority | 431 Vance Street N.W | Lenior | North Carolina | 75,000
Housing Authority of Pikeville | 327 Hellier St | Pikeville | Kentucky | 59,740
Housing Authority of the City of Stamford | 22 Clinton Avenue | Stamford | Connecticut | 75,000
Housing Authority of the Town of Laurinburg | 1300 Woodlawn Street P.O. Box 1437 | Lurinburg | North Carolina | 75,000
Altoona Housing Authority | 2700 Pleasant Valley Boulevard | Altona | Pennsylvania | 75,000
Cranston Housing Authority | 50 Birch Street | Cranston | Rhode Island | 75,000
Housing Authority of the City of Paterson | 60 Van Houten Street | Paterson | New Jersey | 250,000
Housing Authority of the City of Ocilla, Georgia | 534 N Alder Street | Ocilla | Georgia | 75,000
Housing Authority of the City of Union City | 3911 Kennedy Boulevard | Union City | New Jersey | 75,000
Lee County Housing Authority | 14170 Warner Cir., N/W | N. Fort Myers | Florida | 27,125
The Municipal Housing Authority for the City of Yonkers | 1511 Central Park Avenue | Yonkers | New York | 250,000
Lafitte Resident Council Housing Authority | 501 N. Galvez | New Orleans | Louisiana | 75,000
Village of Great Neck Housing Authority | 700 Middle Neck Road | Great Neck | New York | 27,125
Norfolk Redevelopment and Housing Authority | 201 Granby Street | Norfolk | Virginia | 250,000
Institute for Self Governance, Inc. | 870 Market Street #423 | San Francisco | California | 75,000
Morgan County Housing Authority | 301 West Beecher | Jacksonville | Illinois | 75,000
Housing Authority of Salt Lake City | 1776 South West Temple | Salt Lake City | Utah | 75,000
Woonsocket Housing Authority | 679 Social Street | Woonsocket | Rhode Island | 100,000
Geneva Housing Authority | P.O. Box 153 | Geneva | New York | 75,000
Housing Authority of the City of Laurel, Mississippi | 701 Beacon Street | Laurel | Mississippi | 75,000
Junction City Housing Authority | 1202 Country Club Lane | Junction City | Kansas | 75,000
Sunset Village Resident Council, Inc | 2810 Louden | Las Vegas | New Mexico | 75,000
Richmond Redevelopment and Housing Authority | 901 Chamberlayne Parkway | Richmond | Virginia | 100,000
The Housing Authority of Greenville | 511 Augusta Street P.O. Box 10047 | Greenville | South Carolina | 100,000
Camden Housing Authority | 1300 Admiral Wilson Boulevard | Camden | New Jersey | 250,000
Housing Authority of the City of Linden | 1601 Dill Avenue | Linden | New Jersey | 27,125
Lebanon Housing Authority | 400 Ingram Avenue | Campbellsville | Kentucky | 75,000
Starkeville Housing Authority | 101 Woods St | Starkville | Mississippi | 75,000
Keene Housing Authority | 105 Castle Street | Keene | New Hampshire | 75,000
Housing Authority of the County of Lycoming | 1941 Lincoln Drive | Williamsport | Pennsylvania | 75,000
Housing Authority of the City of Hope | 720 Texas St | Hope | Arkansas | 75,000
Cheyenned Housing Authority | 3304 Sheridan Street | Cheyenne | Wyoming | 27,125
Weehawken Housing Authority | 525 Gregory Ave. | Weehawken | New Jersey | 27,125
Housing Authority of the City of High Point | 500 East Russell Avenue PO Box 1779 | High Point | North Carolina | 75,000
St. Mary's County Housing Authority | 23115 Leonard Hall Drive, P.O. Box 653 | Leonardtown | Maryland | 75,000
Newport News Redevelopment and Housing Authority | 227 27th Street P.O. Box 77 | Newport News | Virginia | 250,000
Troy Housing Authority | 403 Main Street | Troy | North Carolina | 75,000
Housing Authority of Horse Cave | 990 North Dixie Street P.O. Box 8 | Horse Cave | Kentucky | 27,125
Cameron County Housing Authority | 65 Castellan Circle | Brownsville | Texas | 75,000
Municipal Housing Authority of the City of Utica, New York | 509 Second Street | Utica | New York | 75,000
Housing Authority of Hazard | 100 Campbell St, Room A | Hazard | Kentucky | 75,000
National Association of Resident Management Corporation | 4521 Douglas, NE | Washington | District of Columbia | 75,000
Bad River Band of Lake Superior Tribe of Chippewa Indians | P.O. Box 57 | Onanah | Wisconsin | 75,000
Bear Soldier RMC, Sanding Rock Reservation | P.O. Box 565 | McLaughlin | South Dakota | 75,000
Colville Indian Housing Authority | P.O. Box 528 | Nespelem | Washington | 75,000
Fort Independence Indian Reservation | P.O. Box 67 | Independence | California | 75,000
Housing Authority of the City of North Little Rock, AR | P.O. Box 516 | North Little Rock | Arkansas | 100,000
Lac Courte Oreilles Housing Authority | 13416 W. Trepania Road | Hayward | Wisconsin | 75,000
Muscogee Creek Nation of Oklahoma | P.O. Boc 580 | Okmulgee | Oklahoma | 250,000
Oglala Sioux Tribe | P.O. Box 3001 | Pine Ridge | South Dakota | 75,000
The Housing Authority of the City of Atlanta | 739 West Peachtree Street, N.E | Atlanta | Georgia | 500,000
Umatilla Reservation Housing Authority | 51 Umatilla Loop P.O. Box 1658 | Pendelton | Oregon | 75,000
Winnebago Housing and Development Commission | Corner of Beck & Elm P.O. Box 669 | Winnebago | Nebraska | 75,000
Total Amount Funded |  |  |  | 22,214,244

[FR Doc. 00-32307 Filed 12-19-00; 8:45 am]

BILLING CODE 4210-33-M